DEPARTMENT OF JUSTICE

Agency Information Collection Activities; Proposed eCollection eComments Requested; Revision; Correction

AGENCY: Drug Enforcement Administration, Department of Justice.

ACTION: Notice; correction.

SUMMARY: The Department of Justice, Drug Enforcement Administration, submitted a 60-day notice for publishing in the Federal Register on October 29, 2019 soliciting comments to an information collection request to the Office of Management and Budget (OMB) for review and approval in accordance with the Paperwork Reduction Act of 1995. The document contained incorrect information listed in the “OMB Number” section, showing 1117-0051.

FOR FURTHER INFORMATION CONTACT: Chiwoniso S. Gurira, Senior Personnel Psychologist, Research and Analysis Staff, Drug Enforcement Administration, 8701 Morrissette Dr., Springfield, VA 22152.

SUPPLEMENTARY INFORMATION:

Correction: In the Federal Register of October 29, 2019 in FR Doc. 2019-23576, on page 57885, the “OMB Number” is reflected to show 1117-0053.

Dated: November 18, 2019.
Melody Braswell,
Department Clearance Officer.

[FR Doc. 2019-25311 Filed 11-21-19; 8:45 am]

BILLING CODE 4410-09-P